DEPARTMENT OF HOMELAND SECURITY

Coast Guard

33 CFR Part 165

[Docket No. USCG-2012-1036]

Safety Zones, Recurring Marine Events in Captain of the Port Long Island Sound Zone

AGENCY: Coast Guard, DHS.

ACTION: Notice of enforcement of regulation.

SUMMARY: The Coast Guard will enforce ten safety zones in the Sector Long Island Sound area of responsibility on the date and time listed in the table below. This action is necessary to provide for the safety of life on navigable waterways during the events. During the enforcement periods, no person or vessel may enter the safety zones without permission of the Captain of the Port (COTP) Sector Long Island Sound or designated representative.

DATES: The regulation in 33 CFR 165.151 Table 1 will be enforced during the dates and times listed in SUPPLEMENTARY INFORMATION.

FOR FURTHER INFORMATION CONTACT: If you have questions on this notice, call or email Petty Officer Melanie Hughes, Waterways Management Division, U.S. Coast Guard Sector Long Island Sound; telephone 203-468-4583, email Melanie.a.Hughes1@uscg.mil.

SUPPLEMENTARY INFORMATION: The Coast Guard will enforce the safety zones listed in 33 CFR 165.151 Table 1 on the specified dates and times as indicated in the following table:

6.2 Town of Branford Fireworks | • Date: June 22-23, 2019.
| • Time: 10 p.m. to 11 p.m.
| • Location: Waters of Branford Harbor, Bridgeport, CT in approximate position, 41°9′04″ N, 073°12′49″ W (NAD 83).
6.3 Vietnam Veterans/Town of East Haven Fireworks | • Date: June 29, 2019.
| • Rain Date: July 1, 2019.
| • Time: 9 p.m. to 11 p.m.
| • Location: Waters off Cosey Beach, East Haven, CT in approximate position, 41°14′19″ N, 072°52′9.8″ W (NAD 83).
6.4 Salute to Veterans Fireworks | • Date: June 29, 2019.
| • Rain Date: June 30, 2019.
| • Time: 9 p.m. to 10:30 p.m.
| • Location: Waters off Reynolds Channel off Hempstead, NY in approximate position, 40°35′36.62″ N, 073°35′20.72″ W (NAD 83).
6.5 Cherry Grove Arts Project Fireworks | • Date: June 22, 2019.
| • Rain Date: June 23, 2019.
| • Time: 9 p.m. to 11 p.m.
| • Location: Waters of the Great South Bay off Cherry Grove, NY in approximate positions, 40°39′49.06″ N, 073°05′27.99″ W (NAD 83).
7.1 Point O'Woods Fire Company Summer Fireworks | • Date: July 4, 2019.
| • Rain Date: July 5, 2019.
| • Time: 9 p.m. to 10:30 p.m.
| • Location: Waters of the Great South Bay, Point O'Woods, NY in approximate position 40°39′18.57″ N, 073°08′5.73″ W (NAD 83).
7.4 Norwalk Fireworks | • Date: July 3, 2019.
| • Time: 8:30 p.m. to 10:30 p.m.
| • Location: Waters off Calf Pasture Beach, Norwalk, CT in approximate position, 41°04′50″ N, 073°23′22″ W (NAD 83).
7.6 Sag Harbor Fireworks | • Date: July 6, 2019.
| • Rain Date: July 7, 2019.
| • Time: 8:30 p.m. to 10:30 p.m.
| • Location: Waters of Sag Harbor off Havens Beach, Sag Harbor, NY in approximate position 41°00′26″ N, 072°17′9″ W (NAD 83).
7.29 Mashantucket Pequot Fireworks | • Date: July 13, 2019.
| • Time: 8:30 p.m. to 10:30 p.m.
| • Location: Waters of the Thames River, New London, CT in approximate position Barge 1, 41°21′03.03″ N, 072°5′24.5″ W Barge 2, 41°20′51.75″ N, 072°5′18.90″ W (NAD 83).
7.42 Connetquot River Summer Fireworks | • Date: July 3, 2019.
| • Rain Date: July 9, 2019.
| • Time: 8:45 p.m. to 10:15 p.m.
| • Location: Waters of the Connetquot River off Snapper Inn Resturant, Oakdale, NY in approximate position 40°43′32.38″ N, 073°9′02.64″ W (NAD 83).
7.46 Irwin Family 4th of July | • Date: July 4, 2019.
| • Time: 8:30 p.m. to 10:30 p.m.
| • Location: Waters of the Great South Bay off The Helm Road, East Islip, NY in approximate position 40°42′12.28″ N, 073°12′00.08″ W (NAD 83).

Under the provisions of 33 CFR 165.151, the events listed above are established as safety zones. During the enforcement period, persons and vessels are prohibited from entering into, transiting through, mooring, or anchoring within these safety zones unless they receive permission from the COTP or designated representative.

This notice is issued under authority of 33 CFR 165 and 5 U.S.C. 552 (a). In addition to this notice in the Federal Register, the Coast Guard will provide the maritime community with advance notification of this enforcement period via the Local Notice to Mariners or marine information broadcasts. If the COTP determines that these safety zones need not be enforced for the full duration stated in this notice, a Broadcast Notice to Mariners may be used to grant general permission to enter the regulated area.

Dated: June 17, 2019.
K.B. Reed,
Captain, U.S. Coast Guard, Captain of the Port Long Island Sound.

[FR Doc. 2019-14394 Filed 7-3-19; 8:45 am]

BILLING CODE 9110-04-P